NATIONAL FOUNDATION ON THE ARTS AND THE HUMANITIES

National Endowment for the Arts; Arts Advisory Panel

Pursuant to Section 10(a)(2) of the Federal Advisory Committee Act (Pub. L. 92-463), as amended, notice is hereby given that twelve meetings of the Arts Advisory Panel to the National Council on the Arts will be held at the Nancy Hanks Center, 1100 Pennsylvania Avenue, NW., Washington, DC, 20506 as follows (ending times are approximate):

Visual Arts (application review): July 1-3, 2008 in Room 716. This meeting, from 9 a.m. to 5:30 p.m. on July 1st, from 9 a.m. to 6 p.m. on July 2nd, and from 9 a.m. to 3 p.m. on July 3rd, will be closed.

Opera (application review): July 7-8, 2008 in Room 716. A portion of this meeting, from 4 p.m. to 5 p.m. on July 8th, will be open to the public for a policy discussion. The remainder of the meeting, from 8:45 a.m. to 5 p.m. on July 7th and from 9 a.m. to 4 p.m. on July 8th, will be closed.

Theater (application review): July 8-11, 2008 in Room 730. A portion of this meeting, from 11:30 a.m. to 12:30 p.m. on July 11th, will be open to the public for a policy discussion. The remainder of the meeting, from 9 a.m. to 6 p.m. on July 8th-10th and from 9 a.m. to 11:30 a.m. and 12:30 p.m. to 5 p.m. on July 11th, will be closed.

Opera (application review): July 9-10, 2008 in Room 716. This meeting, from 8:45 a.m. to 5 p.m. on July 9th and from 9 a.m. to 4 p.m. on July 10th, will be closed.

Music (application review): July 14-16, 2008 in Room 714. This meeting, from 9 a.m. to 6 p.m. on July 14th, from 8:30 a.m.-6 p.m. on July 15th, and from 8:30 a.m. to 5:45 p.m. on July 16th, will be closed.

Museums (application review): July 15-18, 2008 in Room 716. This meeting, from 9 a.m. to 5:30 p.m. on July 15th-17th and from 9 a.m. to 3 p.m. on July 18th, will be closed.

Music (application review): July 17, 2008 in Room 714. A portion of this meeting, from 4:15 p.m. to 5:45 p.m., will be open to the public for a policy discussion. The remainder of the meeting, from 9 a.m. to 4:15 p.m., will be closed.

Theater (application review): July 22-25, 2008 in Room 730. A portion of this meeting, from 11:30 a.m. to 12:30 p.m. on July 25th, will be open to the public for a policy discussion. The remainder of the meeting, from 9 a.m. to 6 p.m. on July 22nd-24th and from 9 a.m. to 11:30 a.m. and 12:30 p.m. to 5 p.m. on July 25th, will be closed.

Presenting (application review): July 23-25, 2008 in Room 716. This meeting, from 8:30 a.m. to 5:30 p.m. on July 23rd-24th and from 8:30 a.m. to 3:45 p.m. on July 25th, will be closed.

AccessAbility (application review): July 24, 2008 in Room 716. This meeting, by teleconference from 2 p.m. to 3:30 p.m., will be closed.

Dance (application review): July 28-August 1, 2008 in Room 716. This meeting, from 9 a.m. to 6 p.m. on July 28th-31st and from 9 a.m. to 3 p.m. on August 1st, will be closed.

Music (application review): July 29-31, 2008 in Room 714. This meeting, from 9 a.m. to 5:45 p.m. on July 29th, from 8:30 a.m. to 6 p.m. on July 30th, and from 8:30 a.m. to 4:15 p.m. on July 31st, will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202-682-5532, TDY-TDD 202-682-5496, at least seven (7) days prior to the meeting.

Further information with reference to these meetings can be obtained from Ms. Kathy Plowitz-Worden, Office of Guidelines & Panel Operations, National Endowment for the Arts, Washington, DC, 20506, or call 202-682-5691.

Dated: June 9, 2008.
Kathy Plowitz-Worden,
Panel Coordinator, Panel Operations, National Endowment for the Arts.

[FR Doc. E8-13193 Filed 6-11-08; 8:45 am]

BILLING CODE 7537-01-P